DEPARTMENT OF DEFENSE

Office of the Secretary

[Docket ID: DoD-2016-OS-0033]

Proposed Collection; Comment Request

AGENCY: Office of the Under Secretary of Defense for Policy, DoD.

ACTION: Notice.

SUMMARY: In compliance with the Paperwork Reduction Act of 1995, the Office of the Under Secretary of Defense for Policy announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 6, 2016.

ADDRESSES: You may submit comments, identified by docket number and title, by any of the following methods:

• Federal eRulemaking Portal: http://www.regulations.gov. Follow the instructions for submitting comments.

• Mail: ODCMO, Directorate for Oversight and Compliance, 4800 Mark Center Drive, ATTN: Mailbox 24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Leadership and Organizational Development Office, 2400 Defense Pentagon, Room 5B683, ATTN: Dr. James Cully, Washington, DC 20301-2400, or call, at 703.695.7386.

SUPPLEMENTARY INFORMATION:

Title; Associated Form; and OMB Number: OUSD—Policy Pulse Survey 2016; OMB Control Number 0704-XXXX.

Needs and Uses: The information collection requirement is necessary to obtain and record responses from contractor personnel employed within the Office of the Under Secretary of Defense for Policy and its components. The survey results are analyzed by the Leadership and Organizational Development Office to assess the progress of the current human capital strategy and to address emerging human capital and training issues.

Affected Public: Business.

Annual Burden Hours: 76.5.

Number of Respondents: 153.

Responses Per Respondent: 2.

Annual Responses: 306.

Average Burden per Response: 15 minutes.

Frequency: On occasion.

Respondents are defense contractors employed by Office of the Under Secretary of Defense for Policy who provide analytic, administrative, and operations services. The survey is administered to all employees of the Office of Secretary of Defense for Policy as required by the Under Secretary of Defense for Policy to assess the effectiveness and progress of the current human capital strategy. If contractors are not permitted to take the survey then the assessment effectively excludes ~20% of the employee population, diminishing the accuracy of the survey and resulting conclusions.

Dated: April 1, 2016.
Aaron Siegel,
Alternate OSD Federal Register Liaison Officer, Department of Defense.

[FR Doc. 2016-07848 Filed 4-5-16; 8:45 am]

BILLING CODE 5001-06-P